DEPARTMENT OF COMMERCE

National Oceanic and Atmospheric Administration

[RTID 0648-XC305]

North Pacific Fishery Management Council; Public Meeting

AGENCY: National Marine Fisheries Service (NMFS), National Oceanic and Atmospheric Administration (NOAA), Commerce.

ACTION: Notice of public hybrid meeting.

SUMMARY: The North Pacific Fishery Management Council (Council) Partial Coverage Fishery Monitoring Advisory Committee (PCFMAC) will meet September 12, 2022.

DATES: The meeting will be held on Monday, September 12, 2022, from 9:30 a.m. to 5:30 p.m. PST.

ADDRESSES: The meetings will be a hybrid meeting. The in-person component of the meeting will be held at the Alaska Fishery Science Center in the Marine Mammal Conference Room 2039, 7600 Sand Point Way NE, Building 4, Seattle, WA 98115, or join the meeting online through the links at https://meetings.npfmc.org/Meeting/Details/2948.

Council address: North Pacific Fishery Management Council, 1007 W 3rd Ave., Anchorage, AK 99501-2252; telephone: (907) 271-2809. Instructions for attending the meeting via video conference are given under SUPPLEMENTARY INFORMATION.

FOR FURTHER INFORMATION CONTACT: Sara Cleaver, Council staff; phone: (907) 271-2809 and email: sara.cleaver@noaa.gov. For technical support, please contact our admin Council staff, email: npfmc.admin@noaa.gov.

SUPPLEMENTARY INFORMATION:

Agenda

Monday September 12, 2022

At this meeting, the PCFMAC will receive the partial observer coverage cost efficiencies integrated analysis and will have an opportunity to develop recommendations for NMFS and the Council. The agenda is subject to change, and the latest version will be posted at https://meetings.npfmc.org/Meeting/Details/2948 prior to the meeting, along with meeting materials.

Connection Information

You can attend the meeting online using a computer, tablet, or smart phone, or by phone only. Connection information will be posted online at: https://meetings.npfmc.org/Meeting/Details/2948. If you are attending the meeting in-person, please note that all attendees are encouraged to wear a mask.

Public Comment

Public comment letters will be accepted and should be submitted electronically to https://meetings.npfmc.org/Meeting/Details/2948.

Authority: 16 U.S.C. 1801 et seq.

Dated: August 23, 2022.
Rey Israel Marquez,
Acting Deputy Director, Office of Sustainable Fisheries, National Marine Fisheries Service.

[FR Doc. 2022-18450 Filed 8-25-22; 8:45 am]

BILLING CODE 3510-22-P